DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[5/26/2017 through 7/3/2017]
Firm name | Firm address | Date accepted for investigation | Product(s)
Flinchbaugh Engineering, Inc | 4387 Run Way, York, PA 17406 | 6/19/2017 | The firm manufactures various engine and transmission components for heavy equipment.
Nickson Industries, Inc | 336 Woodford Avenue, Plainville, CT 06062 | 6/20/2017 | The firm manufactures exhaust hardware and accessories (clamps, tubing products, flexible pipes, hangers, gaskets, saddles, u-bolts, fasteners, washers, and hanger/gasket components).
Machine Tech, Inc | 203 Lacarpe Circle, Houma, LA 70360 | 6/27/2017 | The firm manufactures custom CNC parts for industrial use including flanges, winches, jacks, hoists, sprockets, and pully tackles.
Mid Star Lab, Inc | 1701 Commerce Road, Tonganoxie, KS 66086 | 6/28/2017 | The firm manufactures customized orthopedic shoes.
Acrylic Designs, Inc | 36 Precision Drive, North Springfield, VT 05150 | 6/29/2017 | The firm manufactures counter boxes and floor display cases.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Miriam Kearse,
Lead Program Analyst.

[FR Doc. 2017-14388 Filed 7-7-17; 8:45 am]

BILLING CODE 3510-WH-P